DEPARTMENT OF COMMERCE

Technology Administration

Roundtable on Electronics Recycling; Notice of Meeting

The U.S. Department of Commerce Technology Administration is hosting Technology Recycling: Achieving Consensus for Stakeholders, a roundtable on market issues affecting electronics recycling. Stakeholders including selected representatives of electronics manufacturers, retailers, recyclers, and environmental organizations have been invited to participate. Topics of discussion will include collection and funding mechanisms for electronics recycling, current electronics recycling activities, and creating a market for recycled technology products. The event is open to the public and the press. In order to pre-register, email technologyrecycling@doc.gov or call (202) 482-2475 and leave your name and organization affiliation. If you wish to contribute brochures or display information regarding an ongoing electronics recycling project, please include that information and your phone number in your email or voice mail. Updated information will be available at http://www.ta.doc.gov.

DATES: Tuesday, September 21, 2004, from 1 to 4 p.m.

ADDRESSES: U.S. Department of Commerce Auditorium, 1401 Constitution Avenue, NW., Washington, DC. Enter through the Department of Commerce main entrance on 14th Street between Pennsylvania and Constitution Avenues. Bring a photo ID for security purposes.

FOR FURTHER INFORMATION CONTACT: Mae Ellis-Covell, 202-482-1581.

Dated: September 10, 2004.
Michelle O'Neill,
Deputy Under Secretary of Commerce for Technology.

[FR Doc. 04-21073 Filed 9-17-04; 8:45 am]

BILLING CODE 3510-18-P